DEPARTMENT OF ENERGY

Federal Energy Regulatory Commission

[Docket No. RP01-576-000]

El Paso Natural Gas Company; Notice of Tariff Filing and Annual Charge Adjustment

September 7, 2001.

Take notice that on August 31, 2001, El Paso Natural Gas Company (El Paso) tendered for filing and acceptance by the Federal Energy Regulatory Commission (Commission) the following tariff sheets to its FERC Gas Tariff to become effective October 1, 2001:

Second Revised Volume No. 1A

Twenty-First Revised Sheet No. 20

Twentieth Revised Sheet No. 23

Twenty-Fifth Revised Sheet No. 24

Twentieth Revised Sheet No. 26

Twentieth Revised Sheet No. 27

Sixteenth Revised Sheet No. 28

Seventh Revised Sheet No. 37

Seventh Revised Sheet No. 38

Third Revised Volume No. 2

Forty-Ninth Revised Sheet No. 1-D.2

Forty-Third Revised Sheet No. 1-D.3

El Paso states that the tariff sheets are being filed to revise the Annual Charge Adjustment (“ACA”) from $0.0022 to $0.0021 per dth for the fiscal year beginning October 1, 2001.

El Paso states that copies of this filing are being mailed to its customers, state commissions and other interested parties.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23128 Filed 9-14-01; 8:45 am]

BILLING CODE 6717-01-P